DEPARTMENT OF ENERGY

Federal Energy Regulatory Commission

Combined Notice of Filings #1

Take notice that the Commission received the following exempt wholesale generator filings:

Docket Numbers: EG24-94-000.

Applicants: Texas Waves, LLC.

Description: Texas Waves, LLC submits Notice of Self-Certification of Exempt Wholesale Generator Status.

Filed Date: 1/26/24.

Accession Number: 20240126-5048.

Comment Date: 5 p.m. ET 2/16/24.

Take notice that the Commission received the following Complaints and Compliance filings in EL Dockets:

Docket Numbers: EL24-64-000.

Applicants: Lackawanna Energy Center LLC v. PJM Interconnection, L.L.C.

Description: Complaint of Lackawanna Energy Center LLC v. PJM Interconnection, L.L.C.

Filed Date: 1/25/24.

Accession Number: 20240125-5166.

Comment Date: 5 p.m. ET 2/26/24.

Take notice that the Commission received the following electric rate filings:

Docket Numbers: ER23-2449-003.

Applicants: Lyons Solar, LLC.

Description: Compliance filing: Informational Filing Pursuant to Schedule 2 of the PJM OATT & Request for Waiver to be effective N/A.

Filed Date: 1/26/24.

Accession Number: 20240126-5055.

Comment Date: 5 p.m. ET 2/16/24.

Docket Numbers: ER23-2960-001.

Applicants: Public Service Company of Colorado.

Description: Compliance filing: 2024-01-26 Compliance Filing-Weis Schedule 1 to be effective 1/1/2024.

Filed Date: 1/26/24.

Accession Number: 20240126-5035.

Comment Date: 5 p.m. ET 2/16/24.

Docket Numbers: ER24-254-001.

Applicants: Southwest Power Pool, Inc.

Description: Tariff Amendment: Deficiency Response—Central Power's Formula Rate Revisions to be effective 1/1/2024.

Filed Date: 1/26/24.

Accession Number: 20240126-5044.

Comment Date: 5 p.m. ET 2/16/24.

Docket Numbers: ER24-508-001.

Applicants: NextEra Energy Seabrook, LLC.

Description: Tariff Amendment: Amend. to the 2nd Amend. to A&R EP Agreement with NECEC (ER24-508-) to be effective 11/13/2023.

Filed Date: 1/26/24.

Accession Number: 20240126-5081.

Comment Date: 5 p.m. ET 2/16/24.

Docket Numbers: ER24-531-001.

Applicants: PJM Interconnection, L.L.C.

Description: Tariff Amendment: Amendment of Original WMPA, SA No. 7137; AE2-204 in Docket ER24-531-000 to be effective 2/5/2024.

Filed Date: 1/26/24.

Accession Number: 20240126-5152.

Comment Date: 5 p.m. ET 2/16/24.

Docket Numbers: ER24-541-001.

Applicants: Kiowa County Solar Project, LLC.

Description: Tariff Amendment: Supplement to Petition Requesting Market-Based Rate Authorization to be effective 2/3/2024.

Filed Date: 1/26/24.

Accession Number: 20240126-5124.

Comment Date: 5 p.m. ET 2/16/24.

Docket Numbers: ER24-551-001.

Applicants: Elkhart County Solar Project, LLC.

Description: Tariff Amendment: Supplement to Petition Requesting Market-Based Rate Authorization to be effective 2/4/2024.

Filed Date: 1/26/24.

Accession Number: 20240126-5121.

Comment Date: 5 p.m. ET 2/16/24.

Docket Numbers: ER24-552-001.

Applicants: Martin County II Solar Project, LLC.

Description: Tariff Amendment: Supplement to Petition Requesting Market-Based Rate Authorization to be effective 2/4/2024.

Filed Date: 1/26/24.

Accession Number: 20240126-5128.

Comment Date: 5 p.m. ET 2/16/24.

Docket Numbers: ER24-553-001.

Applicants: Martin County Solar Project, LLC.

Description: Tariff Amendment: Supplement to Petition Requesting Market-Based Rate Authorization to be effective 2/4/2024.

Filed Date: 1/26/24.

Accession Number: 20240126-5134.

Comment Date: 5 p.m. ET 2/16/24.

Docket Numbers: ER24-1008-000.

Applicants: Consolidated Edison Company of New York, Inc.

Description: § 205(d) Rate Filing: 88 Immediate Solutions 1-25-2024 to be effective 1/26/2024.

Filed Date: 1/26/24.

Accession Number: 20240126-5000.

Comment Date: 5 p.m. ET 2/16/24.

Docket Numbers: ER24-1009-000.

Applicants: Midcontinent Independent System Operator, Inc.

Description: § 205(d) Rate Filing: 2024-01-26_Retirement of Generator Weather Curves Functionality to be effective 3/27/2024.

Filed Date: 1/26/24.

Accession Number: 20240126-5023.

Comment Date: 5 p.m. ET 2/16/24.

Docket Numbers: ER24-1010-000.

Applicants: J. Aron & Company LLC.

Description: Compliance filing: Notice of Change in Status and Revised Market-Based Rate Tariff to be effective 1/27/2024.

Filed Date: 1/26/24.

Accession Number: 20240126-5025.

Comment Date: 5 p.m. ET 2/16/24.

Docket Numbers: ER24-1011-000.

Applicants: Aron Energy Prepay 29 LLC.

Description: Compliance filing: Notice of Change in Status and Revised Market-Based Rate Tariff to be effective 1/27/2024.

Filed Date: 1/26/24.

Accession Number: 20240126-5027.

Comment Date: 5 p.m. ET 2/16/24.

Docket Numbers: ER24-1012-000.

Applicants: Aron Energy Prepay 21 LLC.

Description: § 205(d) Rate Filing: Revised Market-Based Rate Tariff to be effective 1/27/2024.

Filed Date: 1/26/24.

Accession Number: 20240126-5029.

Comment Date: 5 p.m. ET 2/16/24.

Docket Numbers: ER24-1013-000.

Applicants: Aron Energy Prepay 22 LLC.

Description: § 205(d) Rate Filing: Revised Market-Based Rate Tariff to be effective 1/27/2024.

Filed Date: 1/26/24.

Accession Number: 20240126-5030.

Comment Date: 5 p.m. ET 2/16/24.

Docket Numbers: ER24-1014-000.

Applicants: Aron Energy Prepay 23 LLC.

Description: § 205(d) Rate Filing: Revised Market-Based Rate Tariff to be effective 1/27/2024.

Filed Date: 1/26/24.

Accession Number: 20240126-5032.

Comment Date: 5 p.m. ET 2/16/24.

Docket Numbers: ER24-1015-000.

Applicants: Aron Energy Prepay 30 LLC.

Description: § 205(d) Rate Filing: Revised Market-Based Rate Tariff to be effective 1/27/2024.

Filed Date: 1/26/24.

Accession Number: 20240126-5034.

Comment Date: 5 p.m. ET 2/16/24.

Docket Numbers: ER24-1016-000.

Applicants: FirstEnergy Pennsylvania Electric Company, PJM Interconnection, L.L.C.

Description: § 205(d) Rate Filing: FirstEnergy Pennsylvania Electric Company submits tariff filing per 35.13(a)(2)(iii: FE PA submits amended IA, SA No. 4160 re: FirstEnergy Reorganization to be effective 1/1/2024.

Filed Date: 1/26/24.

Accession Number: 20240126-5046.

Comment Date: 5 p.m. ET 2/16/24.

Docket Numbers: ER24-1017-000.

Applicants: Southwest Power Pool, Inc.

Description: § 205(d) Rate Filing: 3211R6 North Iowa Municipal Electric Cooperative Association NITSA and NOA to be effective 1/1/2024.

Filed Date: 1/26/24.

Accession Number: 20240126-5050.

Comment Date: 5 p.m. ET 2/16/24.

Docket Numbers: ER24-1018-000.

Applicants: Southwest Power Pool, Inc.

Description: § 205(d) Rate Filing: 3751R1 NorthWestern Energy NITSA and NOA to be effective 1/1/2024.

Filed Date: 1/26/24.

Accession Number: 20240126-5063.

Comment Date: 5 p.m. ET 2/16/24.

Docket Numbers: ER24-1019-000.

Applicants: Southwest Power Pool, Inc.

Description: § 205(d) Rate Filing: 2881R17 City of Chanute, KS NITSA NOA to be effective 1/1/2024.

Filed Date: 1/26/24.

Accession Number: 20240126-5068.

Comment Date: 5 p.m. ET 2/16/24.

Docket Numbers: ER24-1020-000.

Applicants: Keystone Appalachian Transmission Company, PJM Interconnection, L.L.C.

Description: Tariff Amendment: Keystone Appalachian Transmission Company submits tariff filing per 35.15: KATCo submits Notice of Cancellation of Interconnection Agreement, SA No. 4899 to be effective 7/10/2019.

Filed Date: 1/26/24.

Accession Number: 20240126-5069.

Comment Date: 5 p.m. ET 2/16/24.

Docket Numbers: ER24-1021-000.

Applicants: Keystone Appalachian Transmission Company, PJM Interconnection, L.L.C.

Description: § 205(d) Rate Filing: Keystone Appalachian Transmission Company submits tariff filing per 35.13(a)(2)(iii: KATCo submits amended IAs, SA Nos. 2149 and 3316 re: FirstEnergy Reorganization to be effective 1/1/2024.

Filed Date: 1/26/24.

Accession Number: 20240126-5078.

Comment Date: 5 p.m. ET 2/16/24.

Docket Numbers: ER24-1022-000.

Applicants: Southern California Edison Company.

Description: § 205(d) Rate Filing: Amended and Restated IFA, Anza (WDT180/SA No. 179) to be effective 3/27/2024.

Filed Date: 1/26/24.

Accession Number: 20240126-5080.

Comment Date: 5 p.m. ET 2/16/24.

Docket Numbers: ER24-1023-000.

Applicants: Tucson Electric Power Company.

Description: § 205(d) Rate Filing: Service Agreement No. 542 to be effective 1/19/2024.

Filed Date: 1/26/24.

Accession Number: 20240126-5102.

Comment Date: 5 p.m. ET 2/16/24.

Docket Numbers: ER24-1024-000.

Applicants: PJM Interconnection, L.L.C.

Description: Tariff Amendment: Cancellation of WMPA, SA No. 6734; AG2-397 to be effective 3/27/2024.

Filed Date: 1/26/24.

Accession Number: 20240126-5114.

Comment Date: 5 p.m. ET 2/16/24.

Docket Numbers: ER24-1025-000.

Applicants: Idaho Power Company.

Description: § 205(d) Rate Filing: Service Agreements Nos. 432 and 433—IPC/PWX Conditional Firm PTP 2024-2026 to be effective 4/1/2024.

Filed Date: 1/26/24.

Accession Number: 20240126-5123.

Comment Date: 5 p.m. ET 2/16/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 26, 2024.
Debbie-Anne A. Reese,
Acting Secretary.

[FR Doc. 2024-02035 Filed 1-31-24; 8:45 am]

BILLING CODE 6717-01-P